ENVIRONMENTAL PROTECTION AGENCY

[ER-FRL-6634-5]

Environmental Impact Statements; Notice of Availability

Responsible Agency: Office of Federal Activities, General Information (202) 564-7167 or http://www.epa.gov/compliance/nepa/.

Weekly receipt of Environmental Impact Statements.

Filed October 21, 2002, through October 25, 2002.

Pursuant to 40 CFR 1506.9.

EIS No. 020438, DRAFT EIS, NPS, NC, Carl Sandburg Home National Historic Site, General Management Plan, implementation, located in the Village of Flat Rick, Henderson County, NC, comment period ends: December 16, 2002, contact: Tim Bemisderser (404) 562-3124 ext.693.

EIS No. 020439, DRAFT EIS, FRC, ID, Bear River Hydroelectric Project, application for a new license (relicense) for three existing hydroelectric projects: Soda (FERC No. 20-019), Grace-Cove (FERC No. 2401-007) and Oneida (FERC No. 472-017), Bear River Basin, Caribou and Franklin Counties, ID, comment period ends: December 31, 2002, contact: Susan O'Brien (202) 502-8449.

EIS No. 020440, FINAL EIS, IBR, AZ, Reach 11 Recreation Master Plan, Central Arizona Project (CAP) Canal, between Cave Creek and Scottsdale Roads, for recreational purposes, Flood Detention Basin, city of Phoenix, Maricopa County, AZ, wait period ends: December 2, 2002, contact: Sandra Eto (602) 216-3857. This document is available on the Internet at: (http://www.apo.lc.usbr.gov.)

EIS No. 020441, DRAFT EIS, FRC, WV, NC, VA, Greenbrier Pipeline Project, (Docket Nos. CPO 2-396-000 and PF 01-1-000), propose to construct and operate a natural gas pipeline and associated above ground facilities, extending from east of Clendenin, Kanawha County, WV, VA and Granville County, NC, comment period ends: December 16, 2002, contact: Magalie R. Salas (202) 502-8659. This document is available on the Internet at: (http://www.ferc.gov.)

EIS No. 020442, DRAFT EIS, COE, FL, Ona Mine Project, proposes to construct and operate a surface mine for the recovery of phosphate rock, in Western Hardee County, FL, comment period ends: December 16, 2002, contact: Charles A. Schnepel (813) 840-2908. This document is available on the Internet at: www.saj.usace.army.mil/permit/hot-topies/hot-topics.htm.

EIS No. 020443, DRAFT EIS, NRC, FL, Generic EIS-License renewal of nuclear plants for the St. Lucie Units 1 and 2, Supplement 11, NUREG-1437, implementation, Hutchinson Island, St. Lucie County, FL, comment period ends: January 15, 2003, contact: Dr. Michael T. Masnik (301) 415-1191. This document is available on the Internet at: http://www.nrc.gov/Reading-rm.html.

EIS No. 020444, DRAFT EIS, FTA, NC, South Corridor Light Rail Project, to provide light rail service between the town of Pineville and Charlotte's downtown, city of Charlotte, Charlotte-Mecklenburg County, NC, comment period ends: December 16, 2002, contact: Alex McNeil (404) 564-3511.

Amended Notices

EIS No. 010305, DRAFT SUPPLEMENT, FAA, MN, Flying Cloud Airport, substantive changes to alternatives and new information, extension of the runways 9R/27L and 9L/27R, long-term comprehensive development, in the city of Eden Prairie, Hennepin County, MN, due: January 22, 2003, contact: Glen Orcutt (612) 713-4354. Revision of FR notice published on 8/30/2002: CEQ comment period ending 10/25/2002 has been extended to 1/22/2003.

EIS No. 220343, DRAFT EIS, SFW, CA, Natomas Basin Habitat Conservation Plan, issuance of incidental take permit and the adoption of an implementing agreement or agreements, Natomas Basin, Sacramento and Sutter Counties, CA, due: October 28, 2002, contact: Vicki Campbell (916) 414-6600. Revision of FR notice published on 10/11/2002: CEQ comment period ending on 10/28/2002 has been extended to 12/2/2002.

Dated: October 29, 2002.
Joseph C. Montgomery,
Director, NEPA Compliance Division, Office of Federal Activities.

[FR Doc. 02-27826 Filed 10-31-02; 8:45 am]

BILLING CODE 6560-50-P